DEPARTMENT OF COMMERCE

Foreign Trade Zones Board

[Order No. 1492]

Grant of Authority for Subzone Status, A. Wimpfheimer & Bro., Inc. (Textile Finishing), Blackstone, Virginia

Pursuant to its authority under the Foreign-Trade Zones Act of June 18, 1934, as amended (19 U.S.C. 81a-81u), the Foreign-Trade Zones Board (the Board) adopts the following Order:

Whereas, the Foreign-Trade Zones Act provides for ”. . . the establishment . . . of foreign-trade zones in ports of entry of the United States, to expedite and encourage foreign commerce, and for other purposes,” and authorizes the Foreign-Trade Zones Board (the Board) to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Capital Region Airport Commission, grantee of Foreign-Trade Zone 207 (Richmond, Virginia), has made application for authority to establish special-purpose subzone status at the textile finishing plant of A. Wimpfheimer & Bro., Inc., located in Blackstone, Virginia (FTZ Docket 11-2006, filed 4-4-2006);

Whereas, notice inviting public comment was given in the Federal Register (71 FR 19479, 4-14-2006);

Whereas, the application seeks FTZ authority for only the following processes: dyeing, printing, shrinking, sanferizing, desizing, sponging, bleaching, cleaning/laundering, calendaring, hydroxilating, decatizing, fulling, mercerizing, chintzing, moiring, framing/beaming, stiffening, weighting, crushing, tubing, thermofixing, anti-microbial finishing, flame retardation, and embossing; and,

Whereas, the Board adopts the findings and recommendations of the examiner's report, and finds that the requirements of the FTZ Act and Board's regulations would be satisfied, and that approval of the application would be in the public interest if approval were subject to the restrictions listed below;

Now, therefore, the Board hereby grants authority for subzone status for fabric dyeing and printing activity at the textile finishing plant of A. Wimpfheimer & Bro., Inc., located in Blackstone, Virginia (Subzone 207C), as described in the application and Federal Register notice, and subject to the FTZ Act and the Board's regulations, including Section 400.28, and further subject to the following restrictions:

1. Privileged foreign status (19 CFR § 146.41) shall be elected on all foreign status fabric admitted to the subzone;

2. No activity under FTZ procedures shall be permitted that would result in a change in textile quota category, country of origin, and/or alter applicable U.S. quota/visa requirements; and,

3. All FTZ activity shall be subject to Section 146.63(d) of the Bureau of Customs and Border Protection regulations (19 CFR Part 146).

Signed at Washington, DC, this 1st day of December 2006.

David M. Spooner,
Assistant Secretary of Commerce for Import Administration, Alternate Chairman, Foreign-Trade Zones Board.
Attest:
Andrew McGilvray,
Acting Executive Secretary.

[FR Doc. E6-20945 Filed 12-8-06; 8:45 am]

BILLING CODE: 3510-DS-S